DEPARTMENT OF HEALTH AND HUMAN SERVICES

Administration for Children and Families

Submission for OMB Review; Comment Request

Title: D HS/ACF/OPRE Head Start Classroom-based Approaches and Resource for Emotion and Social skill promotion (CARES) project: Impact and Implementation Studies.

OMB No. 0970-0364.

Description: The Head Start Classroom-based Approaches and Resource for Emotion and Social skill promotion (CARES) project is evaluating social emotional program enhancements within Head Start settings serving 3- and 4-year-old children. This project focuses on identifying the central features of effective programs to provide the information federal policy makers and Head Start providers will need if they are to increase Head Start's capacity to improve the social and emotional skills and school readiness of preschool age children. The project is sponsored by the Office of Planning, Research, and Evaluation (OPRE).

the Administration for Children and Families (ACF): The Head Start CARES project uses a group-based randomized design to test the effects of three different evidence-based programs designed to improve the social and emotional development of children in Head Start classrooms.

Data to assess impacts of the program models in preschool was collected through surveys with teachers and parents, as well as direct child assessments. Data to assess implementation of the program models in preschool was collected through surveys and interviews with teachers, local coaches, trainers and center staff. Data collection for both the impact and implementation studies occurred during the Head Start Year. The study sample involved 17 Head Start grantees/delegate agencies, 104 centers, 307 classrooms, 1,042 selected 3-year-old children and 2,885 selected 4-year-old children.

The purpose of this request is to obtain an extension to finish impact data collection in the 2012 Follow-up Year (e.g., Kindergarten for the 4-year-olds). This data to assess impacts of the program models in the kindergarten year will be collected through teacher reports (surveys) and parent surveys.

Respondents: The respondents for the activities under the extension request for Follow-Up year data collection will be parents of children and kindergarten teachers of children in the study.

The annual burden estimates for both surveys covered by the extension are detailed below.

Annual Burden Estimates—Extension
Instrument | Annual number of respondents | Number of responses per respondent | Average burden hours per response | Estimated annual burden hours
Teacher Report on Individual Children | 608 | 1 | 0.33 | 201
Follow-up Parent Survey | 608 | 1 | 0.33 | 201
Estimated Total Annual Burden Hours |  |  |  | 402

Additional Information

Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Dated: April 12, 2012.
Steven M. Hanmer,
OPRE Reports Clearance Officer.

[FR Doc. 2012-9303 Filed 4-18-12; 8:45 am]

BILLING CODE 4184-22-M